DEPARTMENT OF THE INTERIOR

Minerals Management Service

[Docket No. MMS-2008-MRM-0036]

Notice Terminating the Exclusion of Indian Tribal Leases in the Uintah and Ouray Reservation From Valuation Under 30 CFR 206.172

AGENCY: Minerals Management Service, Interior.

ACTION: Notice.

SUMMARY: For gas produced from Indian tribal leases on the Uintah and Ouray Reservation (Reservation) in Utah, the Minerals Management Service (MMS) is terminating the exclusion from valuation under the regulations at 30 CFR 206.172, based on a request by the Ute Indian Tribe of the Uintah and Ouray Reservation.

DATES: Effective Date: First day of the second month following publication.

FOR FURTHER INFORMATION CONTACT: John Barder, Manager, Team B, Western Audit and Compliance, Minerals Revenue Management, Minerals Management Service, P.O. Box 25165, MS 62220B, Denver, Colorado 80225-0165, telephone number (303) 231-3702, fax number (303) 231-3755, e-mail john.barder@mms.gov.

SUPPLEMENTARY INFORMATION: On August 10, 1999, MMS published a final rule titled “Amendments to Gas Valuation Regulations for Indian Leases” at 64 FR 43506, with an effective date of January 1, 2000. Per 30 CFR 206.172, MMS excluded Indian leases on the Reservation from index-based valuation because of the results of a cost benefit analysis MMS performed in 1999. Effective January 2000, MMS has valued gas production from the Reservation under the non-index valuation methodology at 30 CFR 206.174. In the 1999 analysis, MMS estimated that the Ute Indian Tribe would receive more revenue under the non-index-based valuation methodology than under the index-based valuation methodology. Thus, MMS excluded the Ute Indian tribal leases from index-based valuation, effective January 1, 2000. Since the implementation of the final rule (64 FR 43506), MMS has analyzed whether the Ute Indian Tribe would continue to receive more revenue under the non-index-based valuation method than the index-based valuation method.

The MMS recently performed a cost benefit analysis and estimated that revenues using the index-based formula at 30 CFR 206.172 exceed the estimated revenues using the non-index valuation method at 30 CFR 206.174.

As required under 30 CFR 206.172(f)(2), MMS received a tribal resolution from the Business Committee of the Ute Indian Tribe to terminate the exclusion from index-based valuation of gas production from Indian tribal leases on the Reservation. As a result of the tribal resolution and publishing of this notice, gas production from Ute Indian tribal leases on the Reservation must be valued under the index-based valuation method at 30 CFR 206.172 beginning with production on the first day of the second month following the date MMS publishes this notice in the Federal Register.

Lessees must value gas production from Ute Indian tribal leases on the Reservation with the index-based valuation formula in 30 CFR 206.172(d) using the MMS-approved publications and indexes for the Central Rocky Mountain Index Zone to determine the index zone price; or lessees may obtain the index-based values from the MMS Web site at http://www.mrm.mms.gov/TribServ/allzones.htm.

The approved publications and index pricing points for the Central Rocky Mountain Index Zone are listed in the following table:

Index zone | MMS-approved publications: Platt's inside FERC gas market report | MMS-approved publications: NGI's bidweek survey | Index-pricing points
Central | X |  | Kern River Gas Transmission Co. for Wyoming.
Rocky | X |  | Northwest Pipeline Corp. for Rocky Mountains.
Mountain | X |  | Questar Pipeline Co. for Rocky Mountains.
| X |  | Colorado Interstate Gas Co. for Rocky Mountains.
|  | X | Rocky Mountains.
|  |  | CIG.
|  |  | Questar.
|  |  | Kern River.
|  |  | Northwest Domestic.

Dated: April 5, 2010.
Gregory J. Gould,
Associate Director for Minerals Revenue Management.

[FR Doc. 2010-13018 Filed 5-28-10; 8:45 am]

BILLING CODE 4310-MR-P